POSTAL SERVICE

Sunshine Act Meetings

TIME AND DATE: Tuesday, August 9, 2022, at 9:00 a.m.; Tuesday, August 9, 2022, at 4:00 p.m.

PLACE: Washington, DC at U.S. Postal Service Headquarters, 475 L'Enfant Plaza, SW, in the Benjamin Franklin Room.

STATUS: Tuesday, August 9, 2022, at 9:00 a.m.—Closed. Tuesday, August 9, 2022, at 4:00 p.m.—Open.

MATTERS TO BE CONSIDERED:

Tuesday, August 9, 2022, at 9:00 a.m. (Closed)

1. Strategic Issues.

2. Financial and Operational Matters.

3. Executive Session.

4. Administrative Items.

Tuesday, August 9, 2022, at 4:00 p.m. (Open)

1. Remarks of the Chairman of the Board of Governors.

2. Remarks of the Postmaster General and CEO.

3. Approval of the Minutes.

4. Committee Reports.

5. Quarterly Financial Report.

6. Quarterly Service Performance Report.

7. Approval of Tentative Agenda for November 10 Meeting.

A public comment period will begin immediately following the adjournment of the open session on August 9, 2022. During the public comment period, which shall not exceed 45 minutes, members of the public may comment on any item or subject listed on the agenda for the open session above. Additionally, the public will be given the option to join the public comment session and participate via teleconference. Registration of speakers at the public comment period is required. Should you wish to participate via teleconference, you will be required to give your first and last name, a valid email address to send an invite and a phone number to reach you should a technical issue arise. Speakers may register online at https://www.surveymonkey.com/r/bog-08-09-2022. No more than three minutes shall be allotted to each speaker. The time allotted to each speaker will be determined after registration closes. Registration for the public comment period, either in person or via teleconference, will end on August 7 at 4 p.m. EDT. Participation in the public comment period is governed by 39 CFR 232.1(n).

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2022-16242 Filed 7-26-22; 11:15 am]

BILLING CODE 7710-12-P